DEPARTMENT OF HEALTH AND HUMAN SERVICES

National Institutes of Health

Notice of Intent To Prepare an Environmental Impact Statement for the National Emerging Infectious Disease Laboratories Facility in Boston, MA

AGENCY: National Institutes of Health (NIH), DHHS.

ACTION: Notice of intent to prepare an environmental impact statement for the National Emerging Infectious Diseases Laboratories facility in Boston, MA—extension of comment period and rescheduling of public meeting.

SUMMARY: The Department of Health and Human Services (DHHS), National Institutes of Health (NIH), announced its intent to prepare an environmental impact statement (EIS) to evaluate a proposed new National Emerging Infectious Disease Laboratories facility in Boston, MA in the Federal Register on January 9, 2004. The Public Scoping meeting has been rescheduled to Tuesday, February 17th from 7 to 9 p.m. in Fanueil Hall, One Dock Square (corner of Congress and North Streets), Boston, MA 02109. The comment period on the scope of the EIS for the proposed project is extended to March 2, 2004. Comments should be received no later than March 2, 2004. All comments and questions should be directed to the address listed below.

FOR FURTHER INFORMATION CONTACT: Valerie Nottingham, Chief, Environmental Quality Branch, Division of Environmental Protection, Office of Research Facilities, National Institutes of Health, DHHS, B13/2W64, Bethesda, MD 20892; by telephone 310-496-7775; fax 301-480-8056; or e-mail nottingv@ors.od.nih.gov.

Authority: 42 U.S.C. 4321-4341 (National Environmental Policy Act).

Dated: January 29, 2004.
Stephen A. Ficca,
Associate Director for Research Services, National Institutes of Health.

[FR Doc. 04-2650 Filed 2-6-04; 8:45 am]

BILLING CODE 4140-01-M